ENVIRONMENTAL PROTECTION AGENCY

40 CFR Chapter I

[FRL-7474-6]

Establishment and Meeting of the Negotiated Rulemaking Committee on All Appropriate Inquiry

AGENCY: Environmental Protection Agency (EPA).

ACTION: Establishment of FACA Committee and meeting announcement.

SUMMARY: As required by section 9(a)(2) of the Federal Advisory Committee Act (5 U.S.C. App. 2. section 9(a)(2)), we are giving notice that the Environmental Protection Agency is establishing the Negotiated Rulemaking Committee On All Appropriate Inquiry. We also are announcing the date and location of the first meeting of the Committee. EPA has determined that the regulatory negotiation process will ensure that we obtain a diverse array of input from both private sector stakeholders and state program officials who are familiar with and have experience in implementing processes to conduct all appropriate inquiry. EPA also has determined that this Committee is in the public interest and will assist the Agency in performing its duties as prescribed in the Small Business Liability Relief and Brownfields Revitalization Act (the Brownfields law). Negotiations will begin in April 2003 and conclude by December 2003.

Copies of the Committee Charter will be filed with the appropriate committees of Congress and the Library of Congress.

DATES: The first meeting of the Negotiated Rulemaking Committee on All Appropriate Inquiry will be held on April 29 and 30, 2003. The meeting is scheduled for 9 a.m. to 4:30 p.m. on both dates.

ADDRESSES: The first meeting of the Committee will be held in Conference Room 1117A of EPA East, 1201 Constitution Ave. NW., Washington, DC. The meeting is scheduled for 9 a.m. to 4:30 p.m. on April 29 and 30, 2003.

FOR FURTHER INFORMATION CONTACT: Persons needing further information should contact Patricia Overmeyer of EPA's Office of Brownfields Cleanup and Redevelopment, 1200 Pennsylvania Ave., NW., Mailcode 5105T, Washington, DC 20460, (202) 566-2774, or overmeyer.patricia@epa.gov.

SUPPLEMENTARY INFORMATION: On March 6, 2003 EPA published a notice in the Federal Register (68 FR 10675) announcing its intent to form a negotiated rulemaking committee under the Negotiated Rulemaking Act of 1996 and the Federal Advisory Committee Act. The purpose of the Committee will be to conduct discussions and reach consensus, if possible, on proposed regulatory language setting standards and practices for conducting all appropriate inquiry, as required by the Small Business Liability Relief and Brownfields Revitalization Act (the Brownfields law). That Notice discussed the issues to be negotiated and the interest groups proposed as members of the committee. The notice also discussed the procedures involved in a Negotiated Rulemaking process. The public comment period for that notice closed on April 5, 2003.

Issues for Negotiation

We anticipate that the issues to be addressed by the Negotiated Rulemaking Committee on All Appropriate Inquiry may include:

• Balancing the goals and priorities of state regulatory programs, privately-developed consensus standards, and the Congressional mandate for a federal standard for conducting all appropriate inquiry.

• Developing clear and concise standards that address each of the statutory criteria (section 101(35)(B)(iii) of CERCLA).

• Balancing the need to put abandoned properties back into productive reuse with concerns for public health and environmental protection.

• Balancing a need for clear and comprehensive standards that will ensure a high level of certainty in identifying potential environmental concerns without imposing time consuming and unnecessarily expensive regulatory requirements.

• Defining the shelf life of an assessment and the extent to which an assessment, or the results of all appropriate inquiry, may be transferred to subsequent property owners.

• Minimizing disruptions to the current real estate market due to the development of a federal standard that is different from current industry protocols while ensuring that the federal standard is protective and in compliance with statutory criteria.

• Identifying the extent to which sampling and analysis of potentially contaminated property may be required to document the presence, or the lack of, environmental contamination.

• Identifying what information is necessary on the potential contamination of adjacent and adjoining properties, as well as underlying groundwater resources.

• Establishing a list of contaminants to include in the investigation when conducting all appropriate inquiry.

Participants

The Committee will be composed of approximately 25 members representing parties of interest to the rulemaking ensuring a balanced representation from affected and interested stakeholder groups. EPA anticipates that the committee will contain the following types of representatives:

• Environmental Interest Groups

• Environmental Justice Community

• Federal Government

• Tribal Government

• State Government

• Local Government

• Real Estate Developers

• Bankers and Lenders

• Environmental Professionals

EPA has determined that this Committee is in the public interest and will assist the Agency in performing its duties as prescribed in the Small Business Liability Relief and Brownfields Revitalization Act (the Brownfields law).

The first meeting of the Committee will be held on April 29, 2003 in Washington, DC. The Committee will address organizational issues such as groundrules, schedules, and prioritization of issues discussions over the next few meetings. There is no requirement for advance registration for members of the public who wish to attend and observe the meeting. Opportunity for the general public to address the Committee will be provided at the end of the Committee meeting agenda.

Thomas P. Dunne,
Associate Assistant Administrator, Office of Solid Waste and Emergency Response.

[FR Doc. 03-7504 Filed 4-4-03; 8:45 am]

BILLING CODE 6560-50-P